Proclamation 9676 of November 10, 2017

National Apprenticeship Week, 2017

By the President of the United States of America

A Proclamation

During National Apprenticeship Week, we recognize the important role apprenticeships play in unleashing the American workforce. Americans are known for our remarkable productivity, industriousness, and innovative thinking. By pairing these valued traits with the right training, our Nation can renew one of our greatest assets—the American worker.

Affordable education options and training opportunities that lead to stable, well-paying jobs are critical for the health and well-being of our families and communities. Our Nation's existing higher education system, however, does not always provide the right forms of training. According to a recent survey, only 11 percent of employers strongly agreed that America's institutions of higher education are teaching graduates the skills their companies need.

At the same time, the cost of college is rising, putting it out of reach for many and burdening others with increasing amounts of student debt. Those in the class of 2015 who borrowed to finance their education graduated with nearly $30,000 in student debt, on average. During the past administration, the stagnation of wages, which increased by less than six-tenths of 1 percent per year, and education costs that ballooned by more than 20 percent, prevented too many Americans from getting the skills they need to thrive in today's workforce.

Apprenticeships provide an alternative path to a high-paying job by providing opportunities to gain real-world skills while earning a paycheck. In addition, research suggests that graduates of apprenticeship programs earn $300,000 more throughout their lifetime than non-apprentices working in the same field. Because new jobs in our 21st century economy—from healthcare to advanced manufacturing—demand technical skills, apprenticeship programs are uniquely able to provide the affordable and relevant training workers need to fill in-demand jobs throughout the economy.

My Administration has taken important steps to promote and expand apprenticeships. The Department of Labor is fully implementing my Executive Order on Expanding Apprenticeships in America, which directs it to work with other Federal departments and agencies to make it easier for companies to create and grow apprenticeship programs. It also directs the agencies to explore ways to support the development of apprenticeships in industries where the earn-and-learn model has been historically underutilized, including in key sectors such as manufacturing, healthcare, cybersecurity, and information technology.

This week, I challenge businesses, educational institutions, and government entities to expand apprenticeship opportunities and other quality job-training programs to help open more doors for more Americans. As we put the education and training of our people first, American companies will join us by rededicating their efforts to hire American. Together, we will build an even stronger workforce and provide new and exciting opportunities for generations of Americans to learn, earn, and succeed.

NOW, THEREFORE, I, DONALD J. TRUMP, President of the United States of America, by virtue of the authority vested in me by the Constitution and the laws of the United States, do hereby proclaim November 13 through November 19, 2017, as National Apprenticeship Week.

IN WITNESS WHEREOF, I have hereunto set my hand this tenth day of November, in the year of our Lord two thousand seventeen, and of the Independence of the United States of America the two hundred and forty-second.

[FR Doc. 2017-25244

Filed 11-17-17; 11:15 am]

Billing code 3295-F8-P